DEPARTMENT OF THE INTERIOR

National Park Service

[NPS-WASO-NAGPRA-NPS0037219; PPWOCRADN0-PCU00RP14.R50000]

Notice of Inventory Completion: Denver Museum of Nature & Science, Denver, CO

AGENCY: National Park Service, Interior.

ACTION: Notice.

SUMMARY: In accordance with the Native American Graves Protection and Repatriation Act (NAGPRA), the Denver Museum of Nature & Science (DMNS) has completed an inventory of human remains and has determined that there is a cultural affiliation between the human remains and Indian Tribes or Native Hawaiian organizations in this notice. The human remains were removed from the Magic Mountain site, 5JF223, Jefferson County, CO.

DATES: Repatriation of the human remains in this notice may occur on or after February 12, 2024.

ADDRESSES: Michele L. Koons, Curator of Archaeology, Denver Museum of Nature & Science, 2001 Colorado Boulevard, Denver, CO 80205, telephone (303) 370-6457, email Michele.Koons@dmns.org.

SUPPLEMENTARY INFORMATION: This notice is published as part of the National Park Service's administrative responsibilities under NAGPRA. The determinations in this notice are the sole responsibility of the Denver Museum of Nature & Science. The National Park Service is not responsible for the determinations in this notice. Additional information on the determinations in this notice, including the results of consultation, can be found in the inventory or related records held by the Denver Museum of Nature & Science.

Description

Between 1939 and 1941, human remains representing, at minimum, one individual were removed from the Magic Mountain site, 5JF223, in Jefferson County, CO, by Harold and Elizabeth (Betty) Huscher. In 1940, the Huschers donated the collection to the Colorado Museum of Natural History, now DMNS. In 2019, DMNS staff processed several bags labeled “faunal remains” from the Huscher excavation. Analysis shows that nine of those “faunal remains” are actually human bone fragments (A540.18-R). The Huschers excavated animal remains from the site and inadvertently mixed in human remains. The bone fragments are associated with the Early Ceramic period occupational component of the site, which dates approximately 200 to 1000 C.E. No associated funerary objects are present.

Between 1971 and 1972, human remains representing, at minimum, five individuals were removed from the Magic Mountain site, 5JF223, in Jefferson County, CO, by Metropolitan State College of Denver (now the Metropolitan State University of Denver). In 2007, the Center of Southwest Studies, Fort Lewis College, acquired part of the Magic Mountain collection from the Rimrocker Historical Society. The Rimrock Historical Society originally accepted the materials as part of a larger donation in 1998 from Dr. Jonathan Kent of Metropolitan State College of Denver (now the Metropolitan State University of Denver). In April 2023, DMNS staff learned of the Center of Southwest Studies, Fort Lewis College Magic Mountain collection. Both parties agreed to transfer the materials to DMNS in 2023 since the Museum holds the majority of the collections from the site. Prior to transfer analysis conducted by Dr. Dawn Mulhern identified 31 bone fragments. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, folklore, geographical information, historical information, kinship, linguistics, oral tradition, other relevant information, or expert opinion.

Determinations

Pursuant to NAGPRA and its implementing regulations, and after consultation with the appropriate Indian Tribes and Native Hawaiian organizations, the Denver Museum of Nature & Science has determined that:

• The human remains described in this notice represent the physical remains of six individuals of Native American ancestry.

• There is a relationship of shared group identity that can be reasonably traced between the human remains and associated funerary objects described in this notice and the Cheyenne and Arapaho Tribes, Oklahoma; Northern Arapaho Tribe of the Wind River Reservation, Wyoming; Northern Cheyenne Tribe of the Northern Cheyenne Indian Reservation, Montana; Southern Ute Indian Tribe of the Southern Ute Reservation, Colorado; Ute Indian Tribe of the Uintah & Ouray Reservation, Utah; and the Ute Mountain Ute Tribe.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 12, 2024. If competing requests for repatriation are received, the Denver Museum of Nature & Science must determine the most appropriate requestor prior to repatriation. Requests for joint repatriation of the human remains are considered a single request and not competing requests. The Denver Museum of Nature & Science is responsible for sending a copy of this notice to the Indian Tribes and Native Hawaiian organizations identified in this notice.

Authority: Native American Graves Protection and Repatriation Act, 25 U.S.C. 3003, and the implementing regulations, 43 CFR 10.9, 10.10, and 10.14.

Dated: January 4, 2024.
Melanie O'Brien,
Manager, National NAGPRA Program.

[FR Doc. 2024-00434 Filed 1-10-24; 8:45 am]

BILLING CODE 4312-52-P